DEPARTMENT OF AGRICULTURE

Forest Service

Wenatchee-Okanogan Resource Advisory Committee

AGENCY: Forest Service, Agriculture (USDA).

ACTION: Notice of meeting.

SUMMARY: The Wenatchee-Okanogan Resource Advisory Committee (RAC) will hold a virtual meeting by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act, and to also make recommendations on recreation fee proposals for sites on the Okanogan-Wenatchee National Forest within Okanogan, Chelan, Kittitas, and Yakima Counties, consistent with the Federal Lands Recreation Enhancement Act. RAC information and virtual meeting information can be found at the following website: https://www.fs.usda.gov/detail/okawen/workingtogether/advisorycommittees/?cid=fsbdev3_053646.

DATES: The meeting will be held virutally on October 27, 2021, from 9:00 a.m.-4:00 p.m., Pacific Daylight Time.

All RAC meetings are subject to cancellation. For status of the meeting prior to attendance, please contact the person listed under FOR FURTHER INFORMATION CONTACT.

ADDRESSES: The meeting will be held virtually via telephone and/or video. Details for meeting parcipitation can be found on the website linked in the SUMMARY.

Written comments may be submitted as described under SUPPLEMENTARY INFORMATION. All comments, including names and addresses when provided, are placed in the record and are available for public inspection and copying. The public may inspect comments received upon request.

FOR FURTHER INFORMATION CONTACT: Robin DeMario, RAC Coordinator by phone at 509-664-9292 or via email at robin.demario@usda.gov.

Individuals who use telecommunication devices for the hearing-impaired (TDD) may call the Federal Relay Service (FRS) at 1-800-877-8339, 24 hours a day, every day of the year, including holidays.

SUPPLEMENTARY INFORMATION: The purpose of the meeting is to:

1. Hear from Title II project proponents and discuss project proposals;

2. Make funding recommendations on Title II projects;

3. Discuss and make decisions on proposed recreation fee implementation and increases across the forest; and

4. Schedule the next meeting.

Meetings are open to the public. The agenda will include time for individuals to make oral statements of three minutes or less. Individuals wishing to make an oral statement at the meeting should make their request in writing by October 18, 2021, to be scheduled on the agenda for this meeting. Anyone who would like to bring related matters to the attention of the committee may file written statements with the committee staff before or after the meeting. Written comments and requests for time for oral comments must be sent to Robin DeMario, RAC Coordinator at 215 Melody Lane, Wenatchee, Washington 98801 or by email to robin.demario@usda.gov.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case-by-case basis.

Dated: September 17, 2021
Cikena Reid,
USDA Committee Management Officer.

[FR Doc. 2021-20570 Filed 9-22-21; 8:45 am]

BILLING CODE 3411-15-P